DEPARTMENT OF THE INTERIOR

National Park Service

[NPS-WASO-NRNHL-DTS#-26141; PPWOCRADI0, PCU00RP14.R50000]

National Register of Historic Places; Notification of Pending Nominations and Related Actions

AGENCY: National Park Service, Interior.

ACTION: Notice.

SUMMARY: The National Park Service is soliciting comments on the significance of properties nominated before July 27, 2018, for listing or related actions in the National Register of Historic Places.

DATES: Comments should be submitted by August 31, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before July 27, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Baldwin County

American Legion Post 199, 700 S Mobile St., Fairhope, SG100002858

INDIANA

Carroll County

American House Hotel, 205 Michigan Rd., Burlington, SG100002859

Elkhart County

Selmer, H. & A., Inc. Factory, 1119 N Main St., Elkhart, SG100002860

Grant County

Marion PCC & St. Louis Railroad Depot, 1002 S Washington St., Marion, SG100002861

Howard County

Greentown Commercial Historic District, 1/2 blk. on either side of Meridian St. between Walnut and Grant, Greentown, SG100002862

Madison County

Anderson High School Wigwam, 1229 Lincoln St., Anderson, SG100002863

Marshall County

Arnold, Isaac and Ruth, House, 1003 N Main St., Bourbon, SG100002864

Rush County

Mount Pleasant Beech Church and Beech Cemetery, E side of Cty. Rd. 725 W between Cty. Rds. 1000 N & 1100 N, Carthage vicinity, SG100002865

Sullivan County

Sullivan Courthouse Square Historic District, Roughly bounded by Section, Wall, State & Harris Sts., Sullivan, SG100002867

Wayne County

Dublin Friends Meeting House, 2352 W Maple St., Dublin, SG100002868

Fountain City Historic District, Roughly bounded by Noland's Fork, North, Hartley & Vine Sts., Fountain City, SG100002869

MICHIGAN

Calhoun County

Old-Merchants National Bank and Trust Co. Building, 25 W Michigan Ave., Battle Creek, SG100002887

OHIO

Cuyahoga County

Astrup Company Building, The, 2397 W 25th St., Cleveland, SG100002875

Darke County

Knights of Pythias Hall, 118 E Washington St., New Madison, SG100002876

Franklin County

Hartman Hotel, 275 S 4th & 150 E Main Sts., Columbus, SG100002877

Hamilton County

Provident Savings Bank and Trust Co., 630-632 Vine St., Cincinnati, SG100002878

Hancock County

Boss Manufacturing Company, The, 317 W Main Cross St., Findlay, SG100002879

Stark County

Lavin, Carl and Audrey, House, 5240 Plain Center Ave. NE, Canton, SG100002880

Summit County

Cuyahoga Falls Downtown Historic District, 111-245 Portage Trail, 138 Stowe Ave., 2035 Oldetown Loop, 2091-2250 Front, 2044-2220 2nd & 2055-2253 3rd Sts., Cuyahoga Falls, SG100002881

OKLAHOMA

Caddo County

Rock Island Passenger Station, 301 E Main St., Anadarko, SG100002874

Cleveland County

Southridge Addition Historic District, Roughly bounded by Classen Blvd., Oklahoma & S Ponca Aves., E Boyd, Macy & Okmulgee Sts., Norman, SG100002882

VIRGINIA

Alexandria Independent City

Oakland Baptist Cemetery, 4195 W Braddock Rd., Alexandria, SG100002883

Petersburg Independent City

Halifax Triangle and Downtown Commercial Historic District, Generally bounded by Washington, Adams, Sycamore, Halifax, Byrne & Harrison Sts., Petersburg, SG100002886

WISCONSIN

Sheboygan County

Badger State Tanning Company, 1031 Maryland Ave., Sheboygan, SG100002888

A request for removal has been made for the following resource:

OKLAHOMA

Cleveland County

DeBarr Historic District,

Roughly bounded by Boyd St., DeBarr Ave., Duffy St. and the A T & S F RR tracks Norman, OT91001904

A request to move has been received for the following resource:

VIRGINIA

Charlottesville Independent City

Wyndhurst (Charlottesville MRA), 605 Preston Pl., Charlottesville, MV82001816

Authority: Section 60.13 of 36 CFR part 60.

Dated: July 27, 2018.
Julie H. Ernstein,
Acting Chief, National Register of Historic Places/National Historic Landmarks Program and Deputy Keeper of the National Register of Historic Places.

[FR Doc. 2018-17665 Filed 8-15-18; 8:45 am]

BILLING CODE 4312-52-P